DEPARTMENT OF COMMERCE

International Trade Administration

University of Colorado; Notice of Decision on Application for Duty-Free Entry of Scientific Instrument

This decision is made pursuant to section 6(c) of the Educational, Scientific, and Cultural Materials Importation Act of 1966 (Pub. L. 89-651, 80 Stat. 897; 15 CFR part 301). Related records can be viewed between 8:30 a.m. and 5 p.m. in Suite 4100W, U.S. Department of Commerce, Franklin Court Building, 1099 14th Street, NW., Washington, DC.

Docket Number: 03-021. Applicant: University of Colorado, Boulder, CO 80309. Instrument: YAG Laser and Intensity Noise Eater. Manufacturer: InnoLight GmbH, Germany. Intended Use: See notice at 68 FR 26571, May 16, 2003.

Comments: None received. Decision: Approved. No instrument of equivalent scientific value to the foreign instrument, for such purposes as it is intended to be used, is being manufactured in the United States. Reasons: The foreign instrument provides: (1) A spectral linewidth of 1.0 kHz/100 ms and (2) a relative intensity noise level of <150 dB/Hz. A domestic manufacturer of similar equipment advised September 18, 2002 that (1) these capabilities are pertinent to the applicant's intended purpose and (2) it knows of no domestic instrument or apparatus of equivalent scientific value to the foreign instrument for the applicant's intended use (comparable case).

We know of no other instrument or apparatus of equivalent scientific value to the foreign instrument which is being manufactured in the United States.

Gerald A. Zerdy,
Program Manager, Statutory Import Programs Staff.

[FR Doc. 03-16490 Filed 6-27-03; 8:45 am]

BILLING CODE 3510-DS-P